DEPARTMENT OF THE INTERIOR

Office of Surface Mining Reclamation and Enforcement

[S1D1S SS08011000 SX064A000 167S180110; S2D2S SS08011000 SX064A000 16XS501520]

North Cumberland Wildlife Management Area, Tennessee Lands Unsuitable for Mining Draft Petition Evaluation Document and Environmental Impact Statement OSM-EIS-37

AGENCY: Office of Surface Mining Reclamation and Enforcement, Interior.

ACTION: Notice of availability.

SUMMARY: The Office of Surface Mining Reclamation and Enforcement (OSMRE) announces that the draft Petition Evaluation Document and Environmental Impact Statement (PED/EIS) for the North Cumberland Wildlife Management Area Petition to Find Certain Lands Unsuitable for Surface Coal Mining Operations is available for public review and comment.

DATES: Electronic or written comments: OSMRE will accept electronic or written comments within 45 days of the publication of this Notice in the Federal Register.

ADDRESSES: Comments may be submitted using any of the following methods:

Electronic Comments: http://www.osmre.gov/programs/rcm/TNLUM.shtm. Please follow the online instructions for submitting comments.

Mail/Hand-Delivery/Courier: Earl D. Bandy Jr., Director—Knoxville Field Office, Office of Surface Mining Reclamation and Enforcement, John J. Duncan Federal Building, 710 Locust Street, 2nd Floor Knoxville, Tennessee 37902.

You may review the draft PED/EIS online at http://www.osmre.gov/programs/rcm/TNLUM.shtm. You also may review these documents in person at the location listed below.

FOR FURTHER INFORMATION CONTACT: Earl D. Bandy Jr., Director—Knoxville Field Office, Office of Surface Mining Reclamation and Enforcement, John J. Duncan Federal Building, 710 Locust Street, 2nd Floor, Knoxville, Tennessee 37902. Telephone: 865-545-4103. Email: TNLUM@OSMRE.gov.

SUPPLEMENTARY INFORMATION:

Background

On September 30, 2010, pursuant to section 522 of the Surface Mining Control and Reclamation Act (SMCRA), 30 U.S.C. 1272(c), the State of Tennessee filed a petition with OSMRE to designate certain lands in the state as unsuitable for surface coal mining operations. These lands include the area within 600 feet of all ridge lines (a 1,200 foot corridor) lying within the North Cumberland Wildlife Management Area (NCWMA)—made up of the Royal Blue Wildlife Management Area, the Sundquist Wildlife Management Area, and the New River Wildlife Management Area (also known as the Brimstone Tract Conservation Easement)—and the Emory River Tracts Conservation Easement (ERTCE). The area under consideration for designation encompasses in total approximately 67,326 acres along 505 miles of ridgelines. In accordance with its responsibility to administer the federal coal program in Tennessee, OSMRE must process and make decisions on all petitions submitted to designate areas in the state as unsuitable for surface coal mining operations.

The petition includes two primary allegations with numerous allegations of fact and supporting statements. In primary allegation 1, the petitioner contends that the petition area should be designated unsuitable for surface coal mining operations because surface coal mining in the area would be incompatible with existing state or local land use plans or programs. SMCRA 522(a)(3)(A), 30 U.S.C. 1272(a)(3)(A). In primary allegation 2, the petitioner contends that the OSMRE should designate the petition area as unsuitable for surface coal mining operations because such operations would affect fragile or historic lands, resulting in significant damage to important historic, cultural, scientific, and aesthetic values and natural systems. SMCRA 522(a)(3)(B), 30 U.S.C. 1272(a)(3)(B).

The Director, OSMRE, is required to make a decision on the petition. The draft EIS currently considers in detail the following alternatives for action by the Secretary:

—Alternative 1—do not designate any of the petition area as unsuitable for surface coal mining operations (no-action). There would be no change in types of permits applications accepted for evaluation.

—Alternative 2—designate the entire petition area (67,326 acres) as unsuitable for all surface coal mining operations (State's proposed action). No types of surface mining permits applications would be accepted for this area.

—Alternative 3—designate the state petition area (67,326 acres) while allowing remining and road access (agency's preferred alternative). The only acceptable types of permits would be permits for remining.

—Alternative 4—grant an expanded corridor designation of independently-identified ridgelines within the petition area (76,133 acres) while allowing remining and road access. The only acceptable types of permits would be permits for remining.

—Alternative 5—designate lands based on the presence of certain sensitive resources (12,331 acres). No types of surface mining permits would be accepted for this area.

—Alternative 6—designate a reduced corridor of 600 feet (39,106 acres). No types of surface mining permits applications would be accepted for this area.

In accordance with the applicable regulations under 30 CFR parts 762 and 764 and the requirements of the National Environmental Policy Act of 1969 (NEPA), as amended, OSMRE evaluated the merits of the unsuitability petition and analyzed the impacts of these alternatives. This analysis is reflected in the draft PED/EIS.

OSMRE has identified Alternative 3 as its preferred alternative.

How do I comment on the DEIS?

In accordance with 43 CFR 46.435(a) and 40 CFR 1503.1(a)(4), the public is invited to provide written comments on the draft PED/EIS during the 45-day comment period. Please see ADDRESSES and DATES for more information.

OSMRE will review and consider all comments submitted via the methods discussed under ADDRESSES by the close of the comment period (see DATES). OSMRE cannot ensure that comments received after the close of the comment period or at a location other than the office and Web site listed under ADDRESSES will be included in the docket for this DEIS or considered in the development of a final EIS.

All comments should refer to a specific portion of the draft PED/EIS (citation to the chapter, section, page, paragraph, and sentence to which your comment applies would be helpful), be confined to pertinent issues, explain the reason for any recommended change or objection, and include supporting data when appropriate.

Before including your address, phone number, or other personally identifiable information in your comment, you should be aware that your entire comment—including your personally identifiable information—may be made publicly available at any time. While you may request in your comment that your personally identifiable information be withheld from public review, OSMRE cannot guarantee that it will be able to do so.

In addition, a limited number of CD copies of the DEIS are available upon request. You may obtain a CD by contacting the person identified in FOR FURTHER INFORMATION CONTACT.

If you would like to be placed on the mailing list to receive future information on the draft PED/EIS, please contact the person identified in FOR FURTHER INFORMATION CONTACT.

Public Hearings

OSMRE will hold a series of public hearings on the draft PED/EIS. OSMRE representatives will provide information at each hearing. OSMRE will announce arrangements, specific locations, dates, and times for each hearing in local press releases and on the project Web site at http://www.osmre.gov/programs/rcm/TNLUM.shtm. If you are a disabled individual who needs reasonable accommodation to attend and participate in a public hearing, please contact the person listed under FOR FURTHER INFORMATION CONTACT. A court reporter will be available at each hearing to record your comments if you wish to provide input in this fashion.

Authority: 40 CFR 1506.6, 40 CFR 1506.1.

Dated: November 20, 2015.
Thomas D. Shope,
Regional Director, Appalachian Region.

[FR Doc. 2015-30981 Filed 12-10-15; 8:45 am]

BILLING CODE 4310-05-P